DEPARTMENT OF TRANSPORTATION

Office of the Secretary of Transportation

[Docket No. FHWA-2009-0123]

Listening Session Regarding Notice of Funding Availability for Applications for Credit Assistance Under the Transportation Infrastructure Finance and Innovation Act (TIFIA) Program; Clarification of TIFIA Selection Criteria; and Request for Comments on Potential Implementation of Pilot Program To Accept Upfront Payments for the Entire Subsidy Cost of TIFIA Credit Assistance and TIFIA Reauthorization

AGENCY: Federal Highway Administration (FHWA), Federal Railroad Administration (FRA), Federal Transit Administration (FTA), Maritime Administration (MARAD), Office of the Secretary of Transportation (OST), U.S. Department of Transportation (DOT).

ACTION: Notice of listening session.

SUMMARY: The DOT's TIFIA Joint Program Office (JPO) announces a listening session for the public to discuss the topics identified in the notice of funding availability (NOFA) published in the Federal Register at 74 FR 63497, that had an original deadline of December 31, 2009, and was later extended to March 1, 2010 (75 FR 506). This listening session will facilitate stakeholder feedback in a timely manner, consistent with the extension of the comment period and the March 1, 2010, deadline for comments to the docket.

DATES: The DOT will conduct a listening session on Friday, February 12, 2010, from 10:30 a.m. to 4:30 p.m. e.t.

ADDRESSES: The listening session will be held in the West Atrium of the U.S. Department of Transportation located at 1200 New Jersey Avenue, SE., Washington, DC 20590. Due to security procedures and space limitations, participants will need to register online in advance using the following URL http://www.housmanandassociates.com/usdot/ to gain admittance to the meeting.

FOR FURTHER INFORMATION CONTACT: For further information regarding this notice please contact Oscar Bedolla via e-mail at TIFIACredit@dot.gov or via telephone at (202) 366-0368. A TDD is available at (202) 366-7687.

SUPPLEMENTARY INFORMATION:

I. Background

The Transportation Equity Act for the 21st Century (TEA-21), Public Law 105-178, 112 Stat.107, 241, (as amended by sections 1601-02 of Pub. L. 109-59) established the Transportation Infrastructure Finance and Innovation Act of 1998, authorizing the DOT to provide credit assistance in the form of secured (direct) loans, lines of credit, and loan guarantees to public and private applicants for eligible surface transportation projects. The TIFIA JPO, a component of the FHWA Office of Innovative Program Delivery, has responsibility for coordinating program implementation.

In 2005, Congress enacted the Safe, Accountable, Flexible, Efficient Transportation Equity Act: A Legacy for Users (SAFETEA-LU) (Pub. L. 109-59, 119 Stat. 1144), which made a number of amendments to TIFIA including lowering the thresholds and expanding eligibility for TIFIA credit assistance. Discussions regarding the pending reauthorization of the TIFIA program are anticipated in the coming months, and we are looking to stakeholders to provide feedback on potential program improvements for consideration during reauthorization discussions.

Because the demand for credit assistance now exceeds budgetary resources, it is no longer feasible for DOT to maintain, as it had since 2002, an open process whereby the TIFIA JPO accepted applications on a “first come, first serve” basis as defined by the optimal schedule of the applicant. Instead, the DOT is returning to periodic fixed-date solicitations that will establish a competitive group of projects to be evaluated against the TIFIA program objectives.

The eight TIFIA selection criteria are described in statute at 23 U.S.C. 602(b) and assigned relative weights via regulation at 49 CFR 80.15. The criteria were restated in the December 3, 2009, Federal Register notice at 74 FR 63497 with, where appropriate, clarifying language that indicated how the DOT will interpret them. In general, these clarifications indicated the DOT's desire to give priority to projects that have a significant impact on desirable long-term outcomes for the Nation, a metropolitan area, or a region.

As detailed in the December 3, 2009, Federal Register notice, beginning in fiscal year 2008, the total credit requests from TIFIA applicants exceeded available resources. In response, the Department suspended consideration of new applications and reserved anticipated fiscal years 2009 and 2010 appropriations with the expectation that existing applicants would contribute to the Government's cost of providing credit assistance. Several potential applicants, however, rather than waiting to compete for scarce TIFIA funds in fiscal year 2010 and beyond, have indicated an interest paying a fee to offset the entire budgetary cost to the Federal Government. As a result, the DOT announced that it is exploring the potential of implementing a pilot program under which the DOT would accept applications for projects where the borrowers are willing and able to pay a fee to offset the entire subsidy cost of TIFIA credit assistance. The purpose of this pilot program would be to extend credit, consistent with policy objectives, to qualified projects that DOT otherwise cannot provide TIFIA assistance merely due to insufficient budgetary resources.

Finally, with the pending discussions regarding reauthorization of the TIFIA credit program, the DOT is soliciting stakeholder reauthorization proposals at this listening session regarding potential changes to improve the TIFIA program.

II. Purpose of the Listening Session

At the listening session, the DOT will receive the public's feedback on the following four issues.

Because demand for the TIFIA program now exceeds budgetary resources, the DOT recently announced the suspension of the program's open application process and the return to periodic fixed-date solicitations that will establish a competitive group of projects to be evaluated against program objectives.

Additionally, the DOT provided new language clarifying its use of the TIFIA selection criteria, incorporating explicit consideration of these policy objectives: livability, economic competitiveness, safety, sustainability, and state of good repair.

In light of constrained resources vis-à-vis demand for TIFIA assistance, the DOT requested comments regarding the potential implementation of a pilot program to accept, from qualified borrowers, an upfront fee payment to offset the entire subsidy cost of TIFIA credit assistance.

Finally, the DOT will utilize this listening session to seek feedback from stakeholders regarding potential changes to strengthen and/or expand the TIFIA program.

The DOT is committed to providing all interested parties an opportunity to discuss perspectives on pertinent issues that could affect the TIFIA program. While the NOFA published on December 3, 2009, sought public comment on specific issues related to TIFIA, the DOT recognizes that it would be useful to obtain additional information on a broader range of TIFIA-related subjects. Notwithstanding this listening session, however, individuals are encouraged to submit official comments to the docket. Participants are discouraged from reading prepared statements.

III. Meeting Information

The meeting will be held from 10:30 a.m. to 4:30 p.m., e.t., on Friday, February 12, 2010, in the West Atrium of the U.S. Department of Transportation located at 1200 New Jersey Avenue, SE., Washington, DC 20590. Because access to the DOT building is controlled, all visitors must sign in with the security office located at the west building entrance, present valid picture identification, be escorted, and wear a visitor's badge at all times while in the building.

Due to security procedures and space limitations, individuals who wish to attend the listening session must pre-register online by no later than 5 p.m., e.t., on Monday, February 8, 2010, to gain admittance to the meeting. Interested participants must register through the following link http://www.housmanandassociates.com/usdot/. Anyone having difficulties registering online should contact Oscar Bedolla at TIFIACredit@dot.gov, (202)366-0638, for assistance with the online registration. All participants must be registered online. The first 200 participants to register will be granted entrance to the listening session. No formal presentations by participants will be permitted.

Notwithstanding this session, individuals who wish to submit formal written comments to the docket are encouraged to follow the instructions provided in the original NOFA issued on December 3, 2009, at 74 FR 63497 prior to the closing date of March 1, 2010.

Authority: 23 U.S.C. 601-609; 49 CFR 1.48(b)(6); 23 CFR Part 180; 49 CFR Part 80; 49 CFR Part 261; 49 CFR Part 640.

Issued on: January 26, 2010.
Victor M. Mendez,
Administrator.

[FR Doc. 2010-1966 Filed 1-29-10; 8:45 am]

BILLING CODE 4910-22-P